DEPARTMENT OF AGRICULTURE

Forest Service

Shasta County Resource Advisory Committee

AGENCY: Forest Service, USDA.

ACTION: Notice of meeting.

SUMMARY: The Shasta County Resource Advisory Committee (RAC) will meet in Redding, California on two occasions. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meetings are open to the public. The purpose of the meetings is to review and vote on proposals for project funding.

DATES: The meetings will be held: June 18th and 19th, 2014 from 9 a.m. to 12 p.m. and 1 p.m. to 4 p.m.

All RAC meetings are subject to cancellation. For status of meeting prior to attendance, please contact the person listed under FOR FURTHER INFORMATION CONTACT.

ADDRESSES: The meetings will be held at the Shasta-Trinity National Forest headquarters, 3644 Avtech Parkway, Redding, Ca. 96002. Both meetings will be held in the A-B conference room. The headquarters office is located on a short side street off of Airport road on the east side of Redding.

Written comments may be submitted as described under SUPPLEMENTARY INFORMATION. All comments, including names and addresses when provided, are placed in the record and are available for public inspection and copying. The public may inspect comments received at the Shasta-Trinity National Forest Headquarters office in Redding, California. Please call ahead to facilitate entry into the building.

FOR FURTHER INFORMATION CONTACT: Donna F. Harmon, District Ranger by phone at 530-226-2335 or via email at dharmon@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accomodation for access to the facility or procedings by contacting the person listed FOR FURTHER INFORMATION.

SUPPLEMENTARY INFORMATION: Additional RAC information, including the meeting agenda and the meeting summary/minutes can be found at the following Web site: www.fs.usda.gov/main/stnf/workingtogether/advisorycommittees. The agenda will include time for people to make oral statements of three minutes or less. Individuals wishing to make an oral statement or presentation should request in writing by June 5th to be scheduled on the agenda of the June 18th and 19th meetings. Anyone who would like to bring related matters to the attention of the committee may file written statements with the committee staff before or after the meeting. Written comments and requests for time for oral comments must be sent to Donna Harmon, District Ranger, 3644 Avtech Parkway, Redding, California, 96002; or by email to dharmon@fs.fed.us, or via facsimile to 530-226-2486.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: May 1, 2014.
Kathleen S. Roche,
Acting Forest Supervisor, Shasta-Trinity National Forest.

[FR Doc. 2014-10462 Filed 5-6-14; 8:45 am]

BILLING CODE 3410-11-P